DEPARTMENT OF HOMELAND SECURITY

Federal Emergency Management Agency

44 CFR Part 67

[Docket ID FEMA-2010-0003; Internal Agency Docket No. FEMA-B-1126]

Proposed Flood Elevation Determinations

AGENCY: Federal Emergency Management Agency, DHS.

ACTION: Proposed rule; correction.

SUMMARY: On June 3, 2010, FEMA published in the Federal Register a proposed rule that included an erroneous Base Flood Elevation (BFE) description for Rowell Creek and erroneous BFEs for Sal Taylor Creek Tributary 2 in Duval County, Florida. This notice corrects the errors previously published for Rowell Creek and Sal Taylor Creek Tributary 2 in Duval County, Florida.

DATES: Comments pertaining to the Rowell Creek BFEs, from the location approximately 650 feet upstream of Secluded Avenue to the location approximately 0.51 mile upstream of the intersection of Inspiration Avenue and D Avenue, and comments pertaining to the Sal Taylor Creek Tributary 2 BFEs, from the location at the confluence with Sal Taylor Creek to the location approximately 1,500 feet upstream of the confluence with Sal Taylor Creek Tributary 3, are to be submitted on or before November 14, 2011.

ADDRESSES: You may submit comments, identified by Docket No. FEMA-B-1126, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 31347, in the June 3, 2010, issue of the Federal Register, FEMA published a table under the authority of 44 CFR 67.4. The table, entitled “Duval County, Florida, and Incorporated Areas” addressed a number of flooding sources, including Rowell Creek and Sal Taylor Creek Tributary 2.

The proposed rule incorrectly listed the Rowell Creek location description for the modified BFE of 80 feet, referenced to the North American Vertical Datum of 1988, as being approximately 650 feet upstream of Secluded Avenue. The correct location of this modified BFE is approximately 0.51 mile upstream of the intersection of Inspiration Avenue and D Avenue. The proposed rule also incorrectly listed the modified BFEs for Sal Taylor Creek Tributary 2, for both the location at the confluence with Sal Taylor Creek and the location approximately 1,500 feet upstream of the confluence with Sal Taylor Creek Tributary 3. The modified BFE for the location at the confluence with Sal Taylor Creek was listed as 61 feet, referenced to the North American Vertical Datum of 1988. The correct modified BFE for that location is 62 feet, referenced to the North American Vertical Datum of 1988. The modified BFE for the location approximately 1,500 feet upstream of the confluence with Sal Taylor Creek Tributary 3 was listed as 67 feet, referenced to the North American Vertical Datum of 1988. The correct modified BFE for that location is 68 feet, referenced to the North American Vertical Datum of 1988. The effective BFEs were listed correctly in the proposed rule.

This proposed rule correction is reopening the comment period for Rowell Creek, for the proposed BFE at the location approximately 650 feet upstream of Secluded Avenue, where a modified BFE of 67 feet, referenced to the North American Vertical Datum of 1988, is proposed, due to the error in listing the location description for the Rowell Creek BFE of 80 feet, referenced to the North American Vertical Datum of 1988, in the previously published proposed rule at 75 FR 31347. This proposed rule also is opening a comment period for Rowell Creek from the location approximately 650 feet upstream of Secluded Avenue to the location approximately 0.51 mile upstream of the intersection of Inspiration Avenue and D Avenue, where a modified BFE of 80 feet, referenced to the North American Vertical Datum of 1988, is proposed, due to the error in listing the location description for the Rowell Creek BFE of 80 feet, referenced to the North American Vertical Datum of 1988, in the previously published proposed rule at 75 FR 31347. In addition, this proposed rule is reopening the comment period for Sal Taylor Creek Tributary 2, from the location at the confluence with Sal Taylor Creek, where a modified BFE of 62 feet, referenced to the North American Vertical Datum of 1988, is proposed, to the location approximately 1,500 feet upstream of the confluence with Sal Taylor Creek Tributary 3, where a modified BFE of 68 feet, referenced to the North American Vertical Datum of 1988, is proposed, due to the error in listing the modified BFEs for this flooding source in the previously published proposed rule at 75 FR 31347.

(Catalog of Federal Domestic Assistance No. 97.022, “Flood Insurance.”)

Dated: August 5, 2011.
Sandra K. Knight,
Federal Insurance and Mitigation Administrator, Mitigation, Department of Homeland Security, Federal Emergency Management Agency.

[FR Doc. 2011-20715 Filed 8-12-11; 8:45 am]

BILLING CODE 9110-12-P